DEPARTMENT OF TRANSPORTATION

Federal Aviation Administration

14 CFR Part 71

[Docket No. FAA-2020-0642; Airspace Docket No. 19-AWP-98]

RIN 2120-AA66

Amendment of V-25, V-27, V-494, V-108, V-301, and T-257 in the Vicinity of Santa Rosa, CA

AGENCY: Federal Aviation Administration (FAA), DOT.

ACTION: Final rule.

SUMMARY: This action amends VHF Omnidirectional Range (VOR) Federal airways V-25, V-27, V-494, V-108, V-301, and United States Area Navigation route (RNAV) T-257 in the vicinity of Santa Rosa, CA. The amendments are due to the planned decommissioning of the Santa Rosa, CA VOR/Distance Measuring Equipment (DME) navigation aid (NAVAID) which provides navigation guidance for portions of the affected airways. The Santa Rosa VOR/DME is being decommissioned as part of the FAA's VOR Minimum Operational Network (MON) program.

DATES: Effective date 0901 UTC, August 12, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Christopher McMullin, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

History

The FAA published a notice of proposed rulemaking for Docket No. FAA-2020-0642 in the Federal Register (85 FR 47928; August 7, 2020), amending VOR Federal airways V-25, V-27, V-494, V-108, V-301, and RNAV route T-257 in the vicinity of Santa Rosa, CA, due to the planned decommissioning of the Santa Rosa, CA, VOR/DME NAVAID. Interested parties were invited to participate in this rulemaking effort by submitting written comments on the proposal. No comments were received.

VOR Federal airways are published in paragraph 6010(a) and United States Area Navigation Routes are published in paragraph 6011 of FAA Order 7400.11E dated July 21, 2020, and effective September 15, 2020, which is incorporated by reference in 14 CFR 71.1. The VOR Federal airways and United States Area Navigation Route listed in this document will be subsequently published in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

The FAA is amending 14 CFR part 71 by amending VOR Federal airways V-25, V-27, V-494, V-108, V-301, and RNAV route T-257. The planned decommissioning of the Santa Rosa, CA, VOR/DME has made this action necessary. The VOR Federal airway and United States Area Navigation route actions are described below.

V-25: V-25 extends between Mission Bay, CA and Wenatchee, WA. The FAA will amend V-25 to reflect the new description of the GETER intersection. The GETER intersection will be redefined amending the position on radials from Point Reyes and Mendocino VORs. The unaffected portions of the existing airway will remain as charted.

V-27: V-27 extends between Mission Bay, CA and Seattle, WA. The FAA will amend the description of the GETER intersection to reflect new position on radials from the Point Reyes, CA, VOR/DME and the Mendocino, CA, VOR. The unaffected portions of the existing airway will remain as charted.

V-494: V-494 extends from Crescent City, CA to Hazen, NV. The FAA will amend the legal description by removing the reference to the Santa Rosa, CA, VOR/DME and establishing an intersection (ROZZA) utilizing radials from Point Reyes, CA, VOR/DME and the Scaggs Island, CA, VOR Collocated Tactical Air Navigation System (VORTAC). The unaffected portion of the existing airway will remain as charted.

V-108: V-108 extends from Santa Rosa, CA to Hill City, KS. The FAA will amend the route removing references to the Santa Rosa, CA, VOR/DME and referring to the newly established ROZZA intersection utilizing radials from the Point Reyes, CA, VOR/DME and the Scaggs Island, CA, VORTAC. The unaffected portion of the existing airway will remain as charted.

V-301: V-301 extends from Panoche, CA to Williams, CA. The FAA will amend the route, removing references to the Santa Rosa, CA, VOR/DME and referring to the newly established ROZZA intersection utilizing radials from the Point Reyes, CA, VOR/DME and the Scaggs Island, CA, VORTAC. The unaffected portion of the existing airway will remain as charted.

T-257: T-257 extends from Ventura, CA to Tatoosh, WA. The FAA will amend the route to reflect the amended location of FREES due to the relocation on GETER. The unaffected portion of the existing airway will remain as charted.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal airways V-25, V-27, V-494, V-108, V-301, and RNAV route T-257, due to the planned decommissioning of the of the Santa Rosa, CA VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6010(a) Domestic VOR Federal Airways.

* * * * *

V-25 [Amended]

From Mission Bay, CA, via Los Angeles, CA; INT Los Angeles 261° and Ventura, CA, 144° radials; 6 miles wide, Ventura; San Marcus, CA; Paso Robles, CA; Salinas, CA; INT Salinas 310° and Woodside, CA, 158° radials; Woodside; San Francisco, CA; INT San Francisco 304° and Point Reyes, CA, 161° radials; Point Reyes; INT Point Reyes 352° and Mendocino, CA, 146° radials; 28 miles, 24 miles, 85 MSL, 18 miles, 75 MSL, Red Bluff, CA; 53 miles, 95 MSL, INT Red Bluff 015° and Klamath Falls, OR, 181° radials; 19 miles, 95 MSL, Klamath Falls; 21 miles, 77 miles, 90 MSL, Deschutes, OR; Klickitat, WA; Yakima, WA; Ellensburg, WA; Wenatchee, WA. The airspace below 2,000 feet MSL outside the United States and the airspace more than 3 miles NE of the airway centerline between Seal Beach and INT of Seal Beach 287° and Los Angeles 138° radials is excluded. The airspace within R-2511 and W-289 is excluded. The airspace within R-2519 more than 3 statute miles west of the airway centerline, and the airspace within R-2519 below 5,000 feet MSL is excluded. The portion outside the United States has no upper limit.

* * * * *

V-27 [Amended]

From Mission Bay, CA, INT Mission Bay 319° and Santa Catalina, CA, 099° radials; Santa Catalina; 6 miles wide, Ventura, CA; INT Ventura 326° and Fillmore, CA, 265° radials; INT Fillmore 265° and Gaviota, CA, 143° radials; Gaviota; Morro Bay, CA; INT Morro Bay 308° and Big Sur, CA, 157° radials; Big Sur; INT Big Sur 325° and Point Reyes, CA, 161° radials; Point Reyes; INT Point Reyes 352° and Mendocino, CA, 146° radials; Mendocino; Fortuna, CA; Crescent City, CA; 31 miles, 32 miles, 59 MSL, North Bend, OR; Newport, OR; 39 miles, 30 miles, 45 MSL, Astoria, OR; Hoquiam, WA; Seattle, WA. The airspace below 2,000 feet MSL outside the United States between San Diego and Santa Catalina, the airspace within R-2516 and W-289, the airspace within R-2519 more than 3 statute miles west of the airway centerline, and the airspace within R-2519 below 5,000 feet MSL, is excluded. The portion outside the United States has no upper limit.

* * * * *

V-494 [Amended]

From Crescent City, CA, via INT Crescent City 195° and Fortuna, CA, 345° radials; Fortuna; INT Fortuna 170° and Mendocino, CA 321° radials; INT Point Reyes, CA 006° and Scaggs Island, CA 314° radials; Sacramento, CA; INT Sacramento 038° and Squaw Valley, CA, 249° radials; Squaw Valley; INT Squaw Valley 078° and Hazen, NV, 244° radials; Hazen.

* * * * *

V-108 [Amended]

From INT Point Reyes 006° and Scaggs Island 314° radials, via Scaggs Island, CA; INT Scaggs Island 131° and Concord, CA, 276° radials; 7 miles wide (4 miles N and 3 miles S of centerline), Concord; Linden, CA. From Meeker, CO; via Red Table, CO; Black Forest, CO; Hugo, CO; 74 miles, 65 MSL, Goodland, KS; Hill City, KS.

* * * * *

V-301 [Amended]

From Panoche, CA; via INT Panoche 317° and Oakland, CA, 110° radials; Oakland; Point Reyes, CA; INT Point Reyes 006° and Scaggs Island 314°; Williams, CA.

* * * * *

Paragraph 6011 United States Area Navigation Routes

* * * * *

T-257 Ventura, CA (VTU) to Tatoosh, WA (TOU) [Amended]

Ventura, CA (VTU) VOR/DME (lat. 34°06′54.21″ N, long. 119°02′58.17″ W)

San Marcus, CA (RZS) VORTAC (lat. 34°30′34.32″ N, long. 119°46′15.57″ W)

Morro Bay, CA (MQO) VORTAC (lat. 35°15′08.12″ N, long. 120°45′34.44″ W)

BLANC, CA FIX (lat. 35°37′53.19″ N, long. 121°21′23.04″ W)

CAATE, CA WP (lat. 36°46′32.29″ N, long. 122°04′09.57″ W)

CHAWZ, CA WP (lat. 37°06′48.59″ N, long. 122°21′09.58″ W)

PORTE, CA FIX (lat. 37°29′23.23″ N, long. 122°28′28.48″ W)

THHEO, CA WP (lat. 37°44′54.55″ N, long. 122°36′54.79″ W)

JAMIN, CA WP (lat. 37°51′16.99″ N, long. 122°40′12.05″ W)

Point Reyes, CA (PYE) VORTAC (lat. 38°04′47.12″ N, long. 122°52′04.18″ W)

FREES, CA FIX (lat. 38°23′13.59″ N, long. 122°55′20.56″ W)

NACKI, CA WP (lat. 38°43′47.73″ N, long. 123°05′52.93″ W)

Mendocino, CA (ENI) VORTAC (lat. 39°03′11.58″ N, long. 123°16′27.58″ W)

FLUEN, CA FIX (lat. 39°32′47.92″ N, long. 123°33′42.75″ W)

PLYAT, CA FIX (lat. 40°20′20.90″ N, long. 123°41′35.88″ W)

CCHUK, CA WP (lat. 40°31′42.18″N., long. 124°04′16.08″ W.)

SCUPY, CA WP (lat. 40°55′23.94″ N., long. 124°18′09.85″ W.)

OLJEK, CA FIX (lat. 41°28′30.66″ N, long. 124°14′20.68″ W)

CIGCA, CA WP (lat. 41°36′39.60″ N, long. 124°17′27.58″ W)

FURNS, CA WP (lat. 41°55′15.86″ N, long. 124°26′09.40″ W)

MITUE, OR FIX (lat. 43°18′49.00″ N, long. 124°30′22.74″ W)

JANAS, OR FIX (lat. 44°17′33.63″ N, long. 124°05′14.25″ W)

Newport, OR (ONP) VORTAC (lat. 44°34′31.26″ N, long. 124°03′38.14″ W)

CUTEL, OR FIX (lat. 44°54′27.50″ N, long. 124°01′25.30″ W)

ILWAC, WA FIX (lat. 46°19′46.62″ N, long. 124°10′49.49″ W)

ZEDAT, WA FIX (lat. 46°35′50.64″ N, long. 124°10′01.14″ W)

WAVLU, WA FIX (lat. 46°50′00.90″ N, long. 124°06′35.70″ W)

Hoquiam, WA (HQM) VORTAC (lat. 46°56′49.35″ N, long. 124°08′57.37″ W)

COPLS, WA WP (lat. 47°06′46.78″ N, long. 124°07′40.80″ W)

WAPTO, WA FIX (lat. 47°28′19.54″ N, long. 124°13′50.38″ W)

OZETT, WA WP (lat. 48°03′07.00″ N, long. 124°35′54.42″ W)

Tatoosh, WA (TOU) VORTAC (lat. 48°17′59.64″ N, long. 124°37′37.36″ W)

* * * * *

Issued in Washington, DC, on May 28, 2021.
George Gonzalez,
Acting Manager, Rules and Regulations Group.

[FR Doc. 2021-11651 Filed 6-3-21; 8:45 am]

BILLING CODE 4910-13-P